ENVIRONMENTAL PROTECTION AGENCY

[FRL-6905-8]

Acid Rain NOX Emission Reduction Program—Permit Modifications for Alternative Emission Limitations

AGENCY: Environmental Protection Agency (EPA).

ACTION: Notice of draft permit modifications adopting alternative emission limitations.

SUMMARY: Under Title IV of the Clean Air Act, EPA established the Acid Rain NOX Emission Reduction Program to reduce the adverse effects of acidic deposition. EPA adopted nitrogen oxides ( NOX) emission limits and issued permits to affected sources. EPA is issuing and requesting public comment on draft Acid Rain permit modifications. These permit modifications add new NOX emission limitations (i.e., Alternative Emission Limitations for NOX emissions for Phase I units in accordance with the Acid Rain Program regulations) to the permits. The Alternative Emission Limitations are less stringent than the standard limit for these type of units but are the minimum rate that the units can achieve during long-term dispatch operation with low NOX burners.

DATES: Comments. EPA must receive comments on this action on or before the later of December 22, 2000 or 30 days after the date on which a similar notice is published in a local newspaper.

Public Hearing. Anyone requesting a public hearing on this action must contract the EPA by the later of December 4, 2000 or 10 days after the date on which a similar notice is published in a local newspaper.

ADDRESSES: Comments. Send comments, requests for a public hearing, and requests to receive notice of future actions to EPA Region 3, Air Protection Division, 1650 Arch Street, Philadelphia, PA, 19103, Attn: Linda Miller (3 AP 11). Submit comments in duplicate and identify the permit to which the comments apply, the commenter's name, address, and telephone number, and the commenter's interest in the matter and affiliation, if any, to the owners and operators of the units involved.

Public Hearing. To request a public hearing, state the issues proposed to be raised in the hearing. EPA may schedule a hearing if EPA finds that it will contribute to the decision-making process by clarifying significant issues affecting the draft permit modification.

Administrative Records. The administrative record for the draft permit modification, except information protected as confidential, may be viewed during normal operating hours at the following location: EPA Region 3, 1650 Arch Street 14th floor, Philadelphia, PA.

FOR FURTHER INFORMATION CONTACT: Linda Miller, EPA Region 3, (215) 814—2068.

SUPPLEMENTARY INFORMATION: In today's action, EPA is issuing and requesting public comment on draft permit modifications that add to permits an Alternative Emission Limitations for NOX emissions for Phase I units in accordance with Parts 72 and 76 of the Acid Rain Program regulations. EPA will consider all timely comments, except those pertaining to standard provisions under 40 CFR 72.9 or issues not relevant to the draft permit modifications. The units involved are Morgantown Units 1 and 2 and Mitchell Units 1 and 2. Morgantown, Units 1 and 2, are in Charles County, Maryland and will be required to meet an annual average emissions limit for NOX of 0.63 lb/mmBtu and 0.64 lb/mmBtu, respectively, instead of the otherwise applicable standard limit of 0.45 lb/mmBtu. The Morgantown unit's designated representative is James S. Potts. Mitchell, Units 1 and 2, are in Marshall County, West Virginia, and will be required to meet an annual average emissions limit for NOX of 0.55 lb/mmBtu and 0.53 lb/mmBtu, respectively, instead of the otherwise applicable limit of 0.50 lb/mmBtu. The Mitchell unit's designated representative is John M. McManus.

Dated: November 15, 2000.
Brian J. McLean,
Director, Clean Air Markets Division, Office of Atmospheric Programs, Office of Air and Radiation.

[FR Doc. 00-29880 Filed 11-21-00; 8:45 am]

BILLING CODE 6560-50-P